DEPARTMENT OF ENERGY

Federal Energy Regulatory Commission

[Docket No. RP95-363-019]

El Paso Natural Gas Company; Notice of Implementation Filing

July 3, 2000.

Take notice that on June 28, 2000, El Paso Natural Gas Company (El Paso) tendered for filing as part of its FERC Gas Tariff, Second Revised Volume No. 1-A, the following tariff sheets, with an effective date of July 1, 2000:

Fourth Revised Sheet No. 37

Fourth Revised Sheet No. 38

Fourth Revised Sheet No. 310

Fourth Revised Sheet No. 320

El Paso states that the filing is being made in compliance with the Commission's order issued November 10, 1999 at Docket No. RP95-363-002, et al.

El Paso states that the filing implements the pro forma tariff rates and provisions applicable to South California Edison Company contained in El Paso's August 4, 1999 Offer of Settlement.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17325 Filed 7-7-00; 8:45 am]

BILLING CODE 6717-01-M